DEPARTMENT OF ENERGY

Western Area Power Administration

Notice of Floodplain Involvement at the Casper Creek Crossing, Spence-Thermopolis 230-kV and Alcova-Copper Mountain 115-kV Transmission Lines

AGENCY: Western Area Power Administration, DOE.

ACTION: Notice of Floodplain Involvement.

SUMMARY: Western Area Power Administration (Western), a power marketing agency of the U.S. Department of Energy (DOE), is the lead Federal agency for a proposal to make repairs and correct erosion problems at the Casper Creek crossing for the Spence-Thermopolis 230-kilovolt (kV) and Alcova-Copper Mountain 115-kV transmission lines. This project is located in Natrona County, Wyoming, approximately 40 miles west of Casper, Wyoming. A crossing at Casper Creek is necessary to provide access for transmission line inspection and transmission line maintenance. All proposed work will occur within the floodplain of the Middle Fork Casper Creek. In accordance with the DOE's Floodplain/Wetland Review Requirements (10 CFR 1022), Western will prepare a floodplain assessment and will perform the proposed actions in a manner so as to avoid or minimize potential impacts within the affected floodplain.

DATES: Comments on the proposed floodplain action are due to the address below no later than July 10, 2001.

ADDRESSES: Comments should be addressed to Mr. Jim Hartman, Environment Manager, Rocky Mountain Customer Service Region, Western Area Power Administration, P.O. Box 3700, Loveland, CO 80539-3003, telephone (970) 461-7450, fax (970) 461-7213, e-mail hartman@wapa.gov.

FOR FURTHER INFORMATION CONTACT: Mr. Rodney Jones, Environmental Specialist, Rocky Mountain Customer Service Region, Western Area Power Administration, P.O. Box 3700, Loveland, CO 80539-3003, telephone (970) 461-7371, e-mail rjones@wapa.gov.

SUPPLEMENTARY INFORMATION: The proposal to make repairs and correct erosion problems would involve construction activities within the floodplain of Casper Creek. The Casper Creek crossing is located at the Middle Fork Casper Creek, in Natrona County, Wyoming, in Sections 3 and 4, Township 3 North, Range 86 West. Maps and further information are available from Western from the contact above. Western plans to remove an existing culvert at the Casper Creek crossing and replace it with a rock filled gabion-type structure. Four additional rock filled gabion-type structures will be placed in the creek approximately 50 yards downstream from the crossing. Water bars will be constructed on the existing access road and all disturbed areas will be reseeded. The floodplain assessment will examine the impacts on the floodplain of Casper Creek by proposed construction activities.

Dated: June 14, 2001.
Michael S. Hacskaylo,
Administrator.

[FR Doc. 01-15844 Filed 6-22-01; 8:45 am]

BILLING CODE 6450-01-P